DEPARTMENT OF LABOR

Employment and Training Administration

[TA-W-38,439 & NAFTA-4365]

Eastern Fine Paper Brewer, ME; Notice of Revised Determination on Reconsideration

On April 27, 2001, the Department issued a Notice of Affirmative Determination Regarding Application for Reconsideration for TAA and NAFTA-TAA applicable to workers and former workers of the subject firm. The notice was published in the Federal Register on May 9, 2001 (66 FR 23731).

The initial TAA and NAFTA-TAA petition investigations for workers at Eastern Fine Paper, Brewer, Maine (TA-W-38,439 & NAFTA-4365) were denied based on the finding that the subject firm sales and production increased during the relevant period.

The company provided additional information depicting increases in production. They also provided a sales list of customers.

On reconsideration, the Department conducted a survey of the subject firm's customers regarding their purchases of high capacity papers for commercial printing, sheets and rolls during 1999, 2000 and January through March 2001. The survey revealed a major customer increased their reliance on imported (including Canada and/or Mexico) paper like or directly competitive with what the subject plant produced, while decreasing their purchases from the subject plant during the relevant period.

Conclusion

After careful review of the additional facts obtained on reconsideration, I conclude that increased imports of articles like or directly competitive with high capacity papers for commercial printing, sheets and rolls, contributed importantly to the decline in sales or production and to the total or partial separation of workers of Eastern Fine Paper, Brewer, Maine. In accordance with the provisions of the Act, I make the following revised determination:

“All workers of Eastern Fine Paper, Brewer, Maine (TA-W38,439 who became totally or partially separated from employment on or after December 5, 1999, through two years from the date of this issuance, are eligible to apply for adjustment assistance under Section 223 of the Trade Act of 1974” and

“All workers of Eastern Fine Paper, Brewer, Maine (NAFTA-TAA-4365 who became totally or partially separated from employment on or after December 5, 1999, through two years from the date of this issuance, are eligible to apply for NAFTA-TAA under Section 250 of the Trade Act of 1974”

Signed in Washington, DC, this 10th day of April 2002.
Edward A. Tomchick,
Director, Division of Trade Adjustment Assistance.

[FR Doc. 02-10899 Filed 5-1-02; 8:45 am]

BILLING CODE 4510-30-M